DEPARTMENT OF HEALTH AND HUMAN SERVICES

National Institutes of Health

Submission for OMB Review; Comment Request: Collection of Customer Service, Demographic, and Smoking/Tobacco Use Information From the National Cancer Institute's Cancer Information Service (CIS) Clients (NCI)

SUMMARY: Under the provisions of Section 3507(a)(1)(D) of the Paperwork Reduction Act of 1995, the National Cancer Institute (NCI), the National Institutes of Health (NIH), has submitted to the Office of Management and Budget (OMB) a request to review and approve the information collection listed below. This proposed information collection was previously published in the Federal Register on May 24, 2012 (77 FR 31028) and allowed 60-days for public comment. One public comment was received on May 24 wondering why that taxpayers' dollars are being spent on research. An email response was sent on May 25, 2012 that stated the comments will be taken into consideration. The purpose of this notice is to allow an additional 30 days for public comment. The National Institutes of Health may not conduct or sponsor, and the respondent is not required to respond to, an information collection that has been extended, revised, or implemented on or after October 1, 1995, unless it displays a currently valid OMB control number.

Proposed Collection: Title: Collection of Customer Service, Demographic, and Smoking/Tobacco Use Information from the National Cancer Institute's Cancer Information Service (CIS) Clients (NCI). Type of Information Collection Request: Revision of currently approved collection 0925-0208. Need and Use of Information Collection: The National Cancer Institute's Cancer Information Service (CIS) provides the latest information on cancer, clinical trials, and tobacco cessation in English and Spanish. Clients are served by calling 1-800-4-CANCER for cancer information; 1-877-44U-QUIT for smoking cessations services; using the NCI's LiveHelp, a Web-based chat service; using NCI's Contact Us page on www.cancer.gov; and using NCI's Facebook page. CIS currently conducts a brief survey of a sample of telephone and LiveHelp clients at the end of usual service—a survey that includes three customer service and twelve demographic questions (age, sex, race, ethnicity, education, household income, number in household, and five questions about health care/coverage). Characterizing clients and how they found out about the CIS is essential to customer service, program planning, and promotion. The NCI also conducts a survey of individuals using the CIS's smoking cessation services—a survey that includes 20 smoking/tobacco use “intake” questions that serve as a needs assessment that addresses smoking history, previous quit attempts, and motivations to quit smoking. An additional question is used with callers who want to receive proactive call-back services. Responses to these questions enable Information Specialists to provide effective individualized counseling. The NCI's CIS also responds to cancer-related inquiries to its Facebook page and its Contact Us form on www.cancer.gov but does not collect customer service or demographic questions on these access channels. Frequency of Response: Once. Affected Public: Individuals or households. Type of Respondents: People with cancer; their relatives and friends; and general public, including smokers/tobacco users. Annualized estimates for numbers of respondents and respondent burden are presented in Table 1.

Table 1—Estimate of Annual Burden Hours
Type of respondents | Survey instrument | Number of respondents | Frequency of responses | Average time per response (minutes/hour) | Annual burden hours
Telephone Clients:
| Customer Service | 67,400 | 1 | 1/60 | 1,123
| Demographic Questions | 24,300 | 1 | 2/60 | 810
Smoking Cessation “Quitline” Clients:
Reactive Service Clients | Smoking Cessation “Intake” Questions | 4,200 | 1 | 5/60 | 350
| Demographic Questions | 1,300 | 1 | 2/60 | 43
Proactive Callback Service Clients ³ | Follow-Up | 1,000 | 4 | 1/60 | 67
LiveHelp Clients:
| Demographic questions | 7,800 | 1 | 2/60 | 260
Email:
| Email Intake Form | 1,000 | 1 | 2/60 | 34
Total |  |  |  |  | 2,687

Request for Comments: Written comments and/or suggestions from the public and affected agencies should address one or more of the following points: (1) Whether the proposed collection of information is necessary for the proposed performance of the functions of the agency, including whether the information may have practical utility; (2) The accuracy of the estimate of the burden of the proposed collection of information including the validity of the methodology and assumptions used; (3) Ways to enhance the quality, utility, and clarity of the information to be collected; and (4) Ways to minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the Attention: NIH Desk Officer, Office of Management and Budget, at OIRA_submission@omb.eop.gov or by fax to 202-395-6974. To request more information on the proposed project or to obtain a copy of the data collection plans, contact Mary Anne Bright, Associate Director, Office of Public Information and Resource Management, Office of Communications and Education, National Cancer Institute, 6116 Executive Blvd., Room 3023, MSC 8322, Bethesda, MD 20892-8322 or call 301-594-9048 or email your request, including your address, to: brightma@mail.nih.gov.

Comments Due Date: Comments regarding this information collection are best assured of having their full effect if received within 30 days of the date of this publication.

Dated: August 10, 2012.
Vivian Horovitch-Kelley,
NCI Project Clearance Liaison, National Institutes of Health.

[FR Doc. 2012-20269 Filed 8-17-12; 8:45 am]

BILLING CODE 4140-01-P